DEPARTMENT OF HEALTH AND HUMAN SERVICES

National Institutes of Health

National Institute of General Medical Sciences, Amended Notice of Meeting

Notice is hereby given of a change in the meeting of the MARC Review Subcommittee A, February 15, 2007, 8 a.m. to February 15, 2007, 5 p.m. Hyatt Regency Bethesda, One Bethesda Metro Center, 7400 Wisconsin Ave., Bethesda, MD, 20814 which was published in the Federal Register on January 30, 2007, 72 FR 4277.

The meeting will now be held on February 15, 2007 from 8 p.m. to 10 p.m. and on February 16, 2007, 8:30 a.m. to 5 p.m. The meeting is closed to the public.

Dated: February 2, 2007.
Anna Snouffer,
Acting Director, Office of Federal Advisory Committee Policy.

[FR Doc. 07-557 Filed 2-7-07; 8:45 am]

BILLING CODE 4140-01-M